DEPARTMENT OF TRANSPORTATION

Federal Aviation Administration

14 CFR Part 71

[Docket No. FAA-2011-1148; Airspace Docket No. 11-ASO-37]

Revocation of Class E Airspace; Southport, NC, and Establishment of Class E Airspace; Oak Island, NC

AGENCY: Federal Aviation Administration (FAA), DOT.

ACTION: Final rule.

SUMMARY: This action removes Class E Airspace at Southport, NC, and establishes Class E Airspace at Oak Island, NC, as new Standard Instrument Approach Procedures have been developed at Cape Fear Regional Jetport/Howie Franklin Field. This action enhances the safety and airspace management of Instrument Flight Rules (IFR) operations within the National Airspace System. This action also recognizes the airport name change to Cape Fear Regional Jetport/Howie Franklin Field and updates the geographic coordinates of the airport.

DATES: Effective 0901 UTC, May 31, 2012. The Director of the Federal Register approves this incorporation by reference action under title 1, Code of Federal Regulations, part 51, subject to the annual revision of FAA Order 7400.9 and publication of conforming amendments.

FOR FURTHER INFORMATION CONTACT: John Fornito, Operations Support Group, Eastern Service Center, Federal Aviation Administration, P.O. Box 20636, Atlanta, Georgia 30320; telephone (404) 305-6364.

SUPPLEMENTARY INFORMATION:

History

On January 6, 2012, the FAA published in the Federal Register a notice of proposed rulemaking, (77 FR 770) Docket No. FAA-2011-1148, to remove Class E airspace extending upward from 700 feet above the surface designated as South Brunswick County Airport, Southport, NC, (old name), and establish Class E airspace extending upward from 700 feet above the surface at Cape Fear Regional Jetport/Howie Franklin Field, Oak Island, NC (new name). Also, as noted, the airport, formerly called Southport Brunswick County Airport, Southport, NC, is changed to Cape Fear Regional Jetport/Howie Franklin Field, Oak Island, NC, and the geographic coordinates are adjusted to coincide with the FAAs aeronautical database. Interested parties were invited to participate in this rulemaking effort by submitting written comments on the proposal to the FAA. No comments were received. Class E airspace designations are published in paragraph 6005 of FAA Order 7400.9V dated August 9, 2011, and effective September 15, 2011, which is incorporated by reference in 14 CFR 71.1. The Class E airspace designations listed in this document will be published subsequently in the Order.

The Rule

This amendment to Title 14, Code of Federal Regulations (14 CFR) part 71 removes Class E airspace extending upward from 700 feet above the surface at Southport, NC, and establishes Class E airspace at Oak Island, NC to support new Standard Instrument Approach Procedures at Cape Fear Regional Jetport/Howie Franklin Field, Oak Island, NC. Airspace reconfiguration is necessary to the design of new standard instrument approach procedures, and for continued safety and management of IFR operations at the airport. Also, as noted, the airport, formerly called Southport Brunswick County Airport, Southport, NC, is changed to Cape Fear Regional Jetport/Howie Franklin Field, Oak Island, NC, and the geographic coordinates are adjusted to coincide with the FAAs aeronautical database.

The FAA has determined that this regulation only involves an established body of technical regulations for which frequent and routine amendments are necessary to keep them operationally current, is non-controversial and unlikely to result in adverse or negative comments. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of airspace necessary to ensure the safety of aircraft and the efficient use of airspace. This regulation is within the scope of that authority as it removes controlled airspace at Southport, NC, and establishes controlled airspace at Cape Fear Regional Jetport/Howie Franklin Field, Oak Island, NC.

Lists of Subjects in 14 CFR Part 71

Airspace, Incorporation by reference, Navigation (air).

Adoption of the Amendment

In consideration of the foregoing, the Federal Aviation Administration amends 14 CFR Part 71 as follows:

PART 71—DESIGNATION OF CLASS A, B, C, D AND E AIRSPACE AREAS; AIR TRAFFIC SERVICE ROUTES; AND REPORTING POINTS

1. The authority citation for Part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9V, Airspace Designations and Reporting Points, dated August 9, 2011, effective September 15, 2011, is amended as follows:

Paragraph 6005 Class E airspace areas extending upward from 700 feet or more above the surface of the earth.

* * * * *

ASO NC E5 Southport, NC [Removed]

* * * * *

ASO NC E5 Oak Island, NC [New]

Cape Fear Regional Jetport/Howie Franklin Field, NC

(Lat. 33 °55′51″ N., long. 78 °04′24″ W.)

That airspace extending upward from 700 feet above the surface within a 6.8-mile radius of the Cape Fear Regional Jetport/Howie Franklin Field.

Issued in College Park, Georgia, on March 30, 2012.
Barry A. Knight,
Manager, Operations Support Group, Eastern Service Center, Air Traffic Organization.

[FR Doc. 2012-8557 Filed 4-19-12; 8:45 am]

BILLING CODE 4910-13-P